DEPARTMENT OF COMMERCE

National Oceanic and Atmospheric Administration

Pacific Fishery Management Council; Online Webinar

AGENCY: National Marine Fisheries Service (NMFS), National Oceanic and Atmospheric Administration (NOAA), Commerce.

ACTION: Notice of online webinar.

SUMMARY: The Pacific Fishery Management Council's (Pacific Council's) Scientific and Statistical Committee (SSC) will hold an online webinar to review a revised west coast limited entry trawl individual fishing quota (IFQ) projection model developed by the Pacific Council's Groundfish Management Team (GMT). The online SSC webinar is open to the public.

DATES: The SSC webinar will commence at noon PST, Monday, November 9, 2015 and continue until 2 p.m. or as necessary to complete business for the day.

ADDRESSES: To attend the SSC webinar, please join online at http://www.gotomeeting.com/online/webinar/join-webinar and enter the webinar ID: 148-230-579, as well as your name and email address. Once you have joined the webinar, call the toll number 1 (914) 614-3221 and enter 117-723-807 when prompted for the audio access code. Then enter your audio phone pin (shown after joining the webinar). Participants are encouraged to use their telephone, as this is the best practice to avoid technical issues and excessive feedback (see http://www.pcouncil.org/wp-content/uploads/PFMC_Audio_Diagram_GoToMeeting.pdf for best practices). System requirements for PC-based attendees: Windows 7, Vista, or XP; for Mac-based attendees: Mac OS X 10.5 or newer; and for mobile attendees: iPhone, iPad, Android phone, or Android tablet (see the GoToMeeting Webinar Apps). If you experience technical difficulties and would like assistance, please contact Mr. Kris Kleinschmidt at (503) 820-2280, extension 425. A public listening station will also be provided at the Pacific Council office.

Council address: Pacific Council, 7700 NE Ambassador Place, Suite 101, Portland, OR 97220-1384.

FOR FURTHER INFORMATION CONTACT: Mr. John DeVore, Pacific Council; telephone: (503) 820-2413.

SUPPLEMENTARY INFORMATION: The specific objectives of the SSC webinar are to review revisions to the GMT's west coast limited entry trawl IFQ projection model to ensure the changes recommended by the SSC's Groundfish and Economics Subcommittees in June were implemented and the model behaves as expected. During the webinar, the SSC will consider endorsing the GMT's IFQ model to inform management decisions. No management actions will be decided in this webinar. Public comments during the webinar will be received from attendees at the discretion of the SSC chair.

Although non-emergency issues not identified in the webinar agenda may come before the webinar participants for discussion, those issues may not be the subject of formal action during this webinar. Formal action at the webinar will be restricted to those issues specifically listed in this notice and any issues arising after publication of this notice that require emergency action under Section 305(c) of the Magnuson-Stevens Fishery Conservation and Management Act, provided the public has been notified of the webinar participants' intent to take final action to address the emergency.

Special Accommodations

The public listening station at the Pacific Council office is physically accessible to people with disabilities. Requests for auxiliary aids should be directed to Mr. Kris Kleinschmidt at (503) 820-2280 at least 5 days prior to the webinar date.

Dated: October 20, 2015.
Tracey L. Thompson,
Acting Deputy Director, Office of Sustainable Fisheries, National Marine Fisheries Service.

[FR Doc. 2015-27007 Filed 10-22-15; 8:45 am]

BILLING CODE 3510-22-P